DEPARTMENT OF COMMERCE

International Trade Administration

[A-570-918]

Steel Wire Garment Hangers From the People's Republic of China: Preliminary Results of Antidumping Duty Administrative Review; 2017-2018

AGENCY: Enforcement and Compliance, International Trade Administration, Department of Commerce.

SUMMARY: The Department of Commerce (Commerce) preliminarily determines that Shanghai Wells Hanger Co., Ltd. and Hong Kong Wells Ltd. (collectively, Shanghai Wells) has failed to demonstrate its eligibility for separate rate status during the period of review (POR); thus, Shanghai Wells will be considered part of the China-wide entity. We invite all interested parties to comment on these preliminary results.

DATES: Applicable December 13, 2019.

FOR FURTHER INFORMATION CONTACT: Jasun Moy or Viet Le, AD/CVD Operations, Office V, Enforcement and Compliance, International Trade Administration, Department of Commerce, 1401 Constitution Avenue NW, Washington, DC 20230; telephone: (202) 482-8194, or (202) 482-0621, respectively.

SUPPLEMENTARY INFORMATION:

Background

On December 11, 2018, Commerce initiated an administrative review of the antidumping duty order ¹ on steel wire garment hangers (hangers) from the People's Republic of China (China) in accordance with section 751(a) of the Tariff Act of 1930, as amended (the Act) with respect to four companies: Hangzhou Qingqing Mechanical Co., Ltd. (Hangzhou Qingqing); Hangzhou Yingqing Material Co., Ltd. (Hangzhou Yingqing); Hong Kong Wells Ltd.; and Shanghai Wells Hanger Co., Ltd.² On May 1, 2019, Commerce rescinded its review of two of these companies, Hangzhou Qingqing and Hangzhou Yingqing, based on a timely-filed withdrawal of the request for review.³ Because we have previously found that Shanghai Wells Hanger Co., Ltd. and Hong Kong Wells Ltd. are a single entity, Shanghai Wells remains the sole respondent in this review.⁴

¹ See Notice of Antidumping Duty Order: Steel Wire Garment Hangers from the People's Republic of China, 73 FR 58111 (October 6, 2008) (Order).

² See Initiation of Antidumping and Countervailing Duty Administrative Reviews, 83 FR 63615 (December 11, 2018).

³ See Steel Wire Garment Hangers from the People's Republic of China; 2017-2018; Partial Rescission of the Tenth Antidumping Duty Administrative Review, 84 FR 18478 (May 1, 2019).

⁴ Commerce found that Shanghai Wells Hanger Co., Ltd., Hong Kong Wells Ltd., and Hong Kong Wells Ltd. (USA) are affiliated and that Shanghai Wells Hanger Co., Ltd. and Hong Kong Wells Ltd. are a single entity. Because there were no changes to the facts that supported that decision since that determination was made, we continue to find that these companies are affiliated and that Shanghai Wells Hanger Co., Ltd. and Hong Kong Wells Ltd. comprise a single entity for this administrative review. See Steel Wire Garment Hangers from the People's Republic of China: Preliminary Results and Preliminary Rescission, in Part, of the First Antidumping Duty Administrative Review, 75 FR 68758, 68761 (November 9, 2010), unchanged in First Administrative Review of Steel Wire Garment Hangers from the People's Republic of China: Final Results and Final Partial Rescission of Antidumping Duty Administrative Review, 76 FR 27994, 27996 (May 13, 2011); see also Steel Wire Garment Hangers from the People's Republic of China: Final Results of Antidumping Duty Administrative Review, 2016-2017, 83 FR 53449 (October 23, 2018) (Single Entity Determination).

Commerce exercised its discretion to toll all deadlines affected by the partial federal government closure from December 22, 2018 through the resumption of operations on January 29, 2019, resulting in a revised deadline for these preliminary results.⁵ Additionally, Commerce exercised its discretion to extend the deadline for the preliminary results until December 10, 2019.⁶

⁵ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁶ See Memorandum, “Steel Wire Garment Hangers from the People's Republic of China: Extension of Deadline for Preliminary Results of Antidumping Duty Administration Review,” dated September 23, 2019.

On November 1, 2018, Commerce issued the standard non-market economy (NME) questionnaire to Shanghai Wells.⁷ On November 30, 2018, Shanghai Wells submitted its response to section A.⁸ On December 17, 2018, Shanghai Wells submitted its response to sections C and D of the NME questionnaire.⁹ From February 21, 2019 through July 12, 2019, Shanghai Wells timely submitted supplemental questionnaire responses.¹⁰ M&B Metal Products Co. Inc. (the petitioner) requested that Commerce conduct on-site verification of Shanghai Wells to confirm the accuracy and completeness of its responses.¹¹ After scheduling a verification and then rescheduling it in response to Shanghai Wells' request, Shanghai Wells ultimately did not permit Commerce to verify its questionnaire responses.¹²

⁷ See Letter to Shanghai Wells, “Antidumping Duty Administrative Review of Steel Wire Garment Hangers from the People's Republic of China: Non-Market Economy Questionnaire,” dated November 1, 2018 (NME questionnaire).

⁸ See Shanghai Wells' November 30, 2018 Section A Questionnaire Response.

⁹ See Shanghai Wells' December 17, 2018 Section C and D Questionnaire Response.

¹⁰ See Shanghai Wells' February 21, 2019 Section A Supplemental Questionnaire Response; Shanghai Wells' March 19, 2019 Section C Supplemental Questionnaire Response; Shanghai Wells' April 16, 2019 Section D Supplemental Questionnaire Response; Shanghai Wells' May 27, 2019 Second Supplemental Questionnaire Response; Shanghai Wells' June 24, 2019 Third Supplemental Questionnaire Response; Shanghai Wells' July 24, 2019 Fourth Supplemental Questionnaire Response.

¹¹ See Petitioner's Letter, “Tenth Administrative Review of Steel Wire Garment Hangers from China—Petitioner's Request for Verification,” dated February 25, 2019.

¹² See Shanghai Wells' Letter, “Steel Wire Garment Hangers from the People's Republic of China: Reply to Verification Schedule,” dated October 25, 2019.

Scope of the Order

The merchandise subject to the order is steel wire garment hangers. For a full description of the scope, see the Preliminary Decision Memorandum.¹³

¹³ See Memorandum, “Decision Memorandum for the Preliminary Results of the Antidumping Duty Administrative Review of Steel Wire Garment Hangers from the People's Republic of China; 2017-2018,” dated concurrently with and hereby adopted by this notice.

China-Wide Entity

Commerce's policy regarding conditional review of the China-wide entity applies to this administrative review.¹⁴ Under this policy, the China-wide entity will not be under review unless a party specifically requests, or Commerce self-initiates, a review of the China-wide entity.¹⁵ Because no party requested a review of the China-wide entity in this review, the China-wide entity is not under review and the China-wide entity's rate is not subject to change (i.e., 187.25 percent).¹⁶

¹⁴ See Antidumping Proceedings: Announcement of Change in Department Practice for Respondent Selection in Antidumping Duty Proceedings and Conditional Review of the Nonmarket Economy Entity in NME Antidumping Duty Proceedings, 78 FR 65963 (November 4, 2013).

¹⁵ Id.

¹⁶ See Steel Wire Garment Hangers from the People's Republic of China: Preliminary Results of Antidumping Duty Administrative Review; 2013-2014, 80 FR 41480 (July 15, 2015), and accompanying Preliminary Decision Memorandum, unchanged in Steel Wire Garment Hangers from the People's Republic of China: Final Results of Antidumping Duty Administrative Review, 2013-2014, 80 FR 69942 (November 12, 2015).

Methodology

Commerce is conducting this review in accordance with section 751(a) of the Act. For a full description of the methodology underlying our conclusions, see the Preliminary Decision Memorandum. A list of the topics included in the Preliminary Decision Memorandum is included as an appendix to this notice. The Preliminary Decision Memorandum is a public document and is made available to the public via Enforcement and Compliance's Antidumping and Countervailing Duty Centralized Electronic Service System (ACCESS). ACCESS is available to registered users at https://access.trade.gov, and it is available to all parties in the Central Records Unit, room B8024 of the main Commerce building. In addition, a complete version of the Preliminary Decision Memorandum is available at http://enforcement.trade.gov/frn/. The signed and electronic versions of the Preliminary Decision Memorandum are identical in content.

Preliminary Results of Review

Based on Shanghai Wells' refusal to allow Commerce to verify its questionnaire responses including its response to the section A questionnaire, consistent with sections 782(d) and (i) of the Act, Commerce preliminarily determines that Shanghai Wells is not eligible for a separate rate in this administrative review.

Disclosure and Public Comment

Commerce has made no calculations as part of these preliminary results. Accordingly, there will be no disclosure of the calculations performed for these preliminary results of review in accordance with 19 CFR 351.224(b).

Pursuant to 19 CFR 351.309(c), interested parties may submit case briefs no later than 30 days after the date of publication of this notice. Rebuttal briefs, the content of which is limited to issues raised in the case briefs, may be filed no later than five days after the date for filing case briefs.¹⁷ Parties who submit case briefs or rebuttal briefs in this proceeding are encouraged to submit with each argument: (1) A statement of the issue; (2) a brief summary of the argument; and (3) a table of authorities.¹⁸ Case and rebuttal briefs should be filed using ACCESS ¹⁹ and must be served on interested parties.²⁰ Executive summaries should be limited to five pages total, including footnotes.

¹⁷ See 19 CFR 351.309(d).

¹⁸ See 19 CFR 351.309(c)(2) and (d)(2).

¹⁹ See generally 19 CFR 351.303.

²⁰ See 19 CFR 351.303(f).

Pursuant to 19 CFR 351.310(c), interested parties who wish to request a hearing must submit a written request to the Assistant Secretary for Enforcement and Compliance, filed electronically via Commerce's electronic records system, ACCESS. An electronically filed request must be received successfully in its entirety by 5:00 p.m. Eastern Time within 30 days of the date of publication of this notice.²¹ Requests should contain: (1) The party's name, address and telephone number; (2) the number of participants; and (3) a list of issues parties intend to discuss. Issues raised in the hearing will be limited to those raised in the respective case and rebuttal briefs. If a request for a hearing is made, Commerce intends to hold the hearing at the U.S. Department of Commerce, 1401 Constitution Avenue NW, Washington, DC 20230, at a date and time to be determined.²² Parties should confirm the date, time, and location of the hearing two days before the scheduled date.

²¹ See 19 CFR 351.310(c).

²² See 19 CFR 351.310(d).

Commerce intends to issue the final results of this administrative review, including the results of its analysis of the issues raised in any case or rebuttal briefs submitted, no later than 120 days after the date of publication of this notice, unless extended.²³

²³ See section 751(a)(3)(A) of the Act and 19 CFR 351.213(h).

Assessment Rates

Upon completion of this administrative review, Commerce shall determine, and Customs and Border Protection (CBP) shall assess, antidumping duties on all appropriate entries. The final results of this review shall be the basis for the assessment of antidumping duties on entries of merchandise covered by the final results of this review and for future deposits of estimated duties, where applicable.²⁴ We intend to issue liquidation instructions to CBP 15 days after publication of the final results of this review.

²⁴ See section 751(a)(2)(C) of the Act.

Cash Deposit Requirements

The following cash deposit requirements will be effective for all shipments of the subject merchandise entered, or withdrawn from warehouse, for consumption on or after the publication date of the final results of this administrative review, as provided by section 751(a)(2)(C) of the Act: (1) The cash deposit rate for Shanghai Wells will be equal to the weighted-average dumping margin established in the final results of this review; (2) for previously investigated or reviewed Chinese and non-Chinese exporters not listed above that have received a separate rate in a prior segment of this proceeding, the cash deposit rate will continue to be the existing exporter-specific cash deposit rate published for the most recently completed period; (3) for all Chinese exporters of subject merchandise that have not been found to be entitled to a separate rate, the cash deposit rate will be the rate for the China-wide entity; and (4) for all non-Chinese exporters of subject merchandise which have not received their own separate rate, the cash deposit rate will be the rate applicable to the Chinese exporter that supplied that non-Chinese exporter. These cash deposit requirements, when imposed, shall remain in effect until further notice.

Notification to Importers

This notice also serves as a preliminary reminder to importers of their responsibility under 19 CFR 351.402(f)(2) to file a certificate regarding the reimbursement of antidumping duties prior to liquidation of the relevant entries during this period of review. Failure to comply with this requirement could result in Commerce's presumption that reimbursement of antidumping duties occurred and the subsequent assessment of doubled antidumping duties.

Notification to Interested Parties

This administrative review and notice are issued and published in accordance with sections 751(a)(1) and 777(i)(1) of the Act.

Dated: December 9, 2019.
Jeffrey I. Kessler,
Assistant Secretary for Enforcement and Compliance.

Appendix

List of Topics Discussed in the Preliminary Decision Memorandum

I. Summary

II. Background

III. Scope of the Order

IV. Discussion of the Methodology

V. Recommendation

[FR Doc. 2019-26906 Filed 12-12-19; 8:45 am]

BILLING CODE 3510-DS-P